DEPARTMENT OF ENERGY

Federal Energy Regulatory Commission

[Docket No. CP95-35-001]

EcoEléctrica, L.P.; Notice of Application

March 18, 2008.

Take notice that on March 5, 2008 EcoEléctrica, L.P. (EcoEléctrica) filed an application in Docket No. CP95-35-001, pursuant to section 3 of the Natural Gas Act (NGA), for modification of a prior Section 3 Order (dated May 15, 1996) to construct, install, own, operate and maintain certain facilities at the EcoEléctrica LNG import terminal at Penuelas, Puerto Rico. The details of this proposal are more fully set forth in the application that is on file with the Commission and open to public inspection.

The filing may also be viewed on the Web at http://www.ferc.gov using the “eLibrary” link. Enter the docket number excluding the last three digits in the docket number field to access the document. For assistance, please contact FERC Online Support at FERCOnlineSupport@ferc.gov or toll free at (866) 208-3676, or TTY(202) 502-8659. Any initial questions regarding this application should be directed to Lynn R. Coleman, Skadden, Arps, Slate, Meagher & Flom LLP, 1440 New York Avenue, NW., Washington, DC 20005, or by phone at (202) 371-7600.

EcoEléctrica seeks Commission approval to make two modifications to the original Section 3 Order. First, the Section 3 Order of May 15, 1996 authorized the construction of a stub natural gas pipeline that extends to the facility fenceline and which was originally intended for use in providing natural gas to the Puerto Rico Electric Power Authority's (PREPA) Costa Sur Power Plant. The stub pipeline has been constructed but is not used to supply natural gas to the Costa Sur Power Plant because that plant was never converted to natural gas firing. In lieu of this, EcoEléctrica seeks Commission approval to use the stub line to deliver gas to PREPA's proposed Gasoducto del Sur pipeline for use at PREPA's Aguirre Combined Cycle Power Plant upon its conversion from fuel oil to natural gas as power plant fuel.

Second, the Section 3 Order authorized EcoEléctrica to construct an LNG vaporization system. In the Section 3 Order, EcoEléctrica was authorized to install two LNG storage tanks, each with one million barrels storage capacity, and up to six vaporizers, consisting of two vertical shell and tube heat exchanger vaporizers and four open rack type vaporizers. Only one of the LNG storage tanks has been installed. Therefore, only the two vertical shell and tube heat exchanger vaporizers were installed when the LNG terminal was constructed. As part of the project to supply natural gas to the Aguirre plant, EcoEléctrica proposes to install two additional vertical shell and tube heat exchanger vaporizers. All of the additional equipment, including the two vaporizers, will be installed within the existing 36-acre facility site. The single LNG storage tank that is part of the current facility has sufficient volume capacity to supply the natural gas demand for the Aguirre Combined Cycle Power Plant. This proposed EcoEléctrica modification package does not include the construction of the second LNG storage tank.

The proposed modifications will allow EcoEléctrica to increase throughput but EcoEléctrica says that it will remain well within the annual import volume authorized for the EcoEléctrica LNG Terminal by the Department of Energy (DOE) Order Granting Long-Term Authorization to Import LNG, April 19, 1995, DOE/FE Order No. 1042, FE Docket No. 94-91-LNG.

The application includes an Environmental Assessment Report which demonstrates that the potential environmental impacts of the proposed modifications are either negligible or were adequately assessed in the environmental review for the original Section 3 Order for EcoEléctrica.

EcoEléctrica requests that the Commission grant the requested authorization at the earliest practicable date, in order to ensure an in-service date of September 2008.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: 5 p.m. Eastern Time on April 8, 2008.

Kimberly D. Bose,
Secretary.

[FR Doc. E8-5849 Filed 3-21-08; 8:45 am]

BILLING CODE 6717-01-P